NUCLEAR REGULATORY COMMISSION

Sunshine Act Meeting; Notice

Agency Holding the Meeting: Nuclear Regulatory Commission.

Dates: Weeks of April 4, 11, 18, 25, May 2, 9, 2005.

Place: Commissioners' Conference Room, 11555 Rockville Pike, Rockville, Maryland.

Status: Public and Closed.

Matters To Be Considered

Week of April 4, 2005

Tuesday, April 5, 2005

9:30 a.m. Briefing on Office of Research (RES) Programs, Performance, and Plans (Public Meeting) (Contact: Alix Dvorak, 301-415-6601).

This meeting will be webcast live at the Web address— http://www.nrc.gov.

Wednesday, April 6, 2005

9:30 a.m. Briefing on Status of New Site and Reactor Licensing (Public Meeting) (Contact: Steven Bloom, 301-415-1313).

This meeting will be webcast live at the Web address— http://www.nrc.gov.

Thursday, April 7, 2005

1:30 p.m. Meeting with Advisory Committee on Reactor Safeguards (ACRS) (Public Meeting) (Contact: John Larkins, 301-415-7360).

This meeting will be webcast live at the Web address— http://www.nrc.gov.

Week of April 11, 2005—Tentative

There are no meetings scheduled for the Week of April 11, 2005.

Week of April 18, 2005—Tentative

Tuesday, April 19, 2005

9:30 a.m. Discussion of Security Issues (Closed—Ex. 1) (Tentative).

Wednesday, April 20, 2005

9:30 a.m. Meeting with Advisory Committee on the Medical Uses of Isotopes (ACMUI) (Public Meeting) (Contact: Angela McIntosh, 301-415-5030).

This meeting will be webcast live at the Web address— http://www.nrc.gov.

1:30 p.m. Briefing on Office of Nuclear Reactor Regulation (NRR) Programs, Performance, and Plans (Public Meeting) (Contact: Laura Gerke, 301-415-4099).

This meeting will be webcast live at the Web address— http://www.nrc.gov.

Thursday, April 21, 2005

9:30 a.m. Discussion of Security Issues (Closed—Ex. 1) (Tentative).

Week of April 25, 2005—Tentative

Tuesday, April 26, 2005

9:30 a.m. Briefing on Grid Stability and Offsite Power Issues (Public Meeting) (Contact: John Lamb, 301-415-1446).

This meeting will be webcast live at the Web address— http://www.nrc.gov.

Week of May 2, 2005—Tentative

There are no meetings scheduled for the Week of May 2, 2005.

Week of May 9, 2005—Tentative

Wednesday, May 11, 2005

10:30 a.m. All Employees Meeting (Public Meeting).

1:30 p.m. All Employees Meeting (Public Meeting).

The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 31, 2005.
Dave Gamberoni,
Office of the Secretary.

[FR Doc. 05-6746 Filed 4-1-05; 9:22 am]

BILLING CODE 7590-01-M